DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will supersede the existing Form OE-781R, “Monthly Electricity Imports and Exports Report”. The Form OE-781R is currently suspended and would be terminated with the implementation of the proposed Form EIA-111.

DATES: Comments regarding this collection must be received on or before February 27, 2012. If you anticipate that you will be submitting comments, but find it difficult to do so within the period of time allowed by this notice, please advise the DOE Desk Officer at OMB of your intention to make a submission as soon as possible. The Desk Officer may be telephoned at (202) 395-4650.

ADDRESSES: Written comments should be sent to the DOE Desk Officer, Office of Information and Regulatory Affairs, Office of Management and Budget, New Executive Office Building, Room 10102, 735 17th Street, NW., Washington, DC 20503, and to Michelle Bowles. To ensure receipt of the comments by the due date, email (eia-111@eia.gov) is recommended. The mailing address is the U.S. Department of Energy, U.S. Energy Information Administration, Mail Stop: EI-23 (Form EIA-111), 1000 Independence Avenue SW., Washington, DC 20585. Alternatively, Ms. Bowles may be contacted by telephone at (202) 586-2430 or via fax at (202) 287-1960.

FOR FURTHER INFORMATION CONTACT: Requests for additional information or copies of any forms and instructions (the draft proposed collection) should be directed to Michelle Bowles at the address listed above. Forms and instructions are also available on the internet at: http://beta.eia.gov/survey/form-eia111/proposed.pdf.

SUPPLEMENTARY INFORMATION: This information collection request contains: (1) OMB No.; (2) Information Collection Request Title; (3) Type of Request; (4) Purpose; (5) Annual Estimated Number of Respondents; (6) Annual Estimated Number of Total Responses; (7) Annual Estimated Number of Burden Hours; (8) Annual Estimated Reporting and Recordkeeping Cost Burden.

1. New.

2. Form EIA-111, Quarterly Electricity Imports and Exports Report.

3. Three-year approval.

4. Form EIA-111 collects U.S. electricity import and export data. The data are used to get an accurate measure of the flow of electricity into and out of the United States. The import and export data are reported by U.S. purchasers, sellers and transmitters of wholesale electricity, including persons authorized by Order to export electric energy from the United States to foreign countries, persons authorized by Presidential Permit to construct, operate, maintain, or connect electric power transmission lines that cross the U.S. international border, and U.S. Balancing Authorities that are directly interconnected with foreign Balancing Authorities. Such entities are to report monthly flows of electric energy received or delivered across the border, the cost associated with the transactions, and actual and implemented interchange. The data collected on this form may appear in various EIA publications.

5. 173 respondents surveyed quarterly.

6. 692 responses annually.

7. Annual total of 4,152 hours.

10. Annual total of $0.

Statutory Authority: Section 13(b) of the Federal Energy Administration Act of 1974, Pub. L. 93-275, codified at 15 U.S.C. 772(b).

Issued in Washington, DC, January 18, 2012.
Stephanie Brown,
Director, Office of Survey Development and Statistical Integration, U. S. Energy Information Administration.

[FR Doc. 2012-1632 Filed 1-25-12; 8:45 am]

BILLING CODE 6450-01-P